DEPARTMENT OF LABOR

Employment and Training Administration

Proposed Information Collection Request for the Unemployment Insurance (UI) Data Validation (DV) Program; Comment Request

AGENCY: Employment and Training Administration, Department of Labor.

ACTION: Notice.

SUMMARY: As part of its continuing effort to reduce paperwork and respondent burden, the Department of Labor (Department) conducts a preclearance consultation program to provide the general public and Federal agencies with an opportunity to comment on proposed and/or continuing collections of information in accordance with the Paperwork Reduction Act of 1995 (PRA95) [44 U.S.C. 3506(c)(2)(A)]. This program helps to ensure that the requested data can be provided in the desired format, reporting burden (time and financial resources) is minimized, collection instruments are clearly understood, and the impact of collection requirements on respondents can be properly assessed.

A copy of the proposed information collection request (ICR) can be obtained by contacting the office listed below in the addresses section of this notice or by accessing: http://www.doleta.gov/OMBCN/OMBControlNumber.cfm.

DATES: Submit comments to the office listed in the ADDRESSES section below on or before April 14, 2008.

ADDRESSES: Submit comments to Burman Skrable, Office of Workforce Security, Employment and Training Administration, U.S. Department of Labor, Room S-4522, 200 Constitution Avenue, NW., Washington, DC 20210, telephone: 202-693-3197 (this is not a toll-free number), fax: 202-693-3975, e-mail: skrable.burman@dol.gov.

SUPPLEMENTARY INFORMATION:

I. Background: Section 303(a)(6) of the Social Security Act specifies that the Secretary of Labor will not certify State UI programs to receive administrative grants unless the State's law includes provisions for—

Making of such reports * * * as the Secretary of Labor may from time to time require, and compliance with such provisions as the Secretary may from time to time find necessary to assure the correctness and verification of such reports.

The Department considers data validation one of those “provisions * * * necessary to assure the correctness and verification” of the reports it requires.

The Government Performance and Results Act of 1993 (GPRA) requires Federal agencies to develop annual and strategic performance plans that establish performance goals, have concrete indicators of the extent that goals are achieved, and set performance targets. Each year, the agency is to issue a report that “evaluate[s] the performance plan for the current fiscal year relative to the performance achieved toward the performance goals in the fiscal year covered by the report.” Section 1116(d)(2) of OMB Circular A-11, which implements the GPRA process, cites the Reports Consolidation Act of 2000 to emphasize the need for data validation by requiring that the agency's annual performance report “contain an assessment of the completeness and reliability of the performance data included in it [that] * * * describes any material inadequacies in the completeness and reliability of the data.” (OMB Circular A-11, section 230.2(f).) The President's Management Agenda has also emphasized the importance of complete information for program monitoring and improving program results to improve the management and performance of the Federal government.

The UI DV system checks the validity of 1,275 data elements reported on 12 benefits reports and one tax report. The Department uses many of these elements for key performance measures as well as for allocating administrative funds among states, and for critical economic reports.

II. Desired Focus of Comments: Currently, the Department is soliciting comments concerning the extension of the UI DV Program which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions: The validation process assesses the validity (accuracy) of the counts of transactions or measurements of status as follows. In the validation process, guided by a detailed handbook, the state first constructs extract files containing all pertinent individual transactions for the desired report period to be validated. Each transaction contains the necessary characteristics or dimensions that enable it to be summed into an independent recount of what the state has already reported. Standardized software edits the extract file, e.g., to remove duplicate transactions, then aggregates the transactions to produce an independent reconstruction or “validation count” of the reported figure. The reported count is considered valid by this “quantity” validation test if it is within ±2% of the validation count (±1% for a GPRA-related element). The software also draws samples of most transaction types from the extract files; guided by a state-specific handbook, the validators review these against documentation in the state's management information system to determine whether the transactions in the extract file are supported by system documentation and thus that the validation count can be trusted as accurate. The extract files are considered to pass this “quality” review if random samples indicate that no more than 5% of the records contain errors.

Beginning in FY 2008 and beyond, all states will be required to conduct a complete validation every three years. There are two exceptions to this rule: (1) Groups of reported counts that are summed for purposes of making a Pass/Fail determination and do not pass validation by being within ±2% of the reconstructed counts (±1% in the case of report elements used to calculate GPRA measures) must be revalidated within one year; the same is true for random samples that show that the underlying population from which they are drawn contains more than 5% of its transactions in error; and (2) all samples and counts used for GPRA measures must be validated annually regardless of whether they pass validity standards or not.

Type of Review: Extension without change.

Agency: Employment and Training Administration (ETA).

Title: Unemployment Insurance Data Validation Program.

OMB Number: 1205-0431.

Agency Number: ETA Handbook 361.

Recordkeeping: States are required to retain validation results and supporting documentation for three years to support an audit.

Affected Public: State Workforce Agencies (SWAs).

Total Respondents: 53.

Frequency: Annual.

Total Responses: 53 per year.

Estimated Time per Response: 550 hours.

Total Burden Hours: 29,150 hours.

Total Burden Cost (capital/startup): N/A.

Total Burden Cost (operating/maintaining): $1,060,769.

Comments submitted in response to this notice will be summarized and/or included in the request for OMB approval of the information collection request; they will also become a matter of public record.

Dated: February 6, 2008.
Cheryl Atkinson,
Administrator, Office of Workforce Security, Washington, DC.

[FR Doc. E8-2555 Filed 2-11-08; 8:45 am]

BILLING CODE 4510-FW-P